DEPARTMENT OF COMMERCE

National Oceanic and Atmospheric Administration

[I.D. 101105A]

Fisheries of the South Atlantic; South Atlantic Fishery Management Council, King and Spanish Mackerel Advisory Panel Meeting

AGENCY: National Marine Fisheries Service (NMFS), National Oceanic and Atmospheric Administration (NOAA), Commerce.

ACTION: Notice of South Atlantic Fishery Management Council's King and Spanish Mackerel Advisory Panel will hold a meeting via conference call.

SUMMARY: The South Atlantic Fishery Management Council (SAFMC) will hold a meeting of its King and Spanish Mackerel Advisory Panel (AP) via conference call to address: (1) Amendment 17 to the Coastal Migratory Pelagic Resources (Mackerel) Fishery Management Plan for the Gulf of Mexico and South Atlantic, and (2) the coastal migratory pelagics resources component of Generic Amendment 3 for Addressing Essential Fish Habitat (EFH) Requirements, Habitat Areas of Particular Concern (HAPC), and Adverse Effects of Fishing in the Following Fishery Management Plans of the Gulf of Mexico: Shrimp, Red Drum, Reef Fish, Stone Crab, Coral and Coral Reefs in the Gulf of Mexico, and Spiny Lobster and the Coastal Migratory Pelagic Resources of the Gulf of Mexico and South Atlantic. Amendment 17 addresses the current charter/headboat permit moratorium for the Gulf of Mexico fishery. See SUPPLEMENTARY INFORMATION.

DATES: The meeting will take place November 3, 2005. See SUPPLEMENTARY INFORMATION.

ADDRESSES: The meeting will be held via conference call. Public listening stations will be available at 5 locations. See SUPPLEMENTARY INFORMATION.

FOR FURTHER INFORMATION CONTACT: Kim Iverson, Public Information Officer, South Atlantic Fishery Management Council, One Southpark Circle, Suite 306, Charleston, SC 29407-4699; phone: (843) 571-4366 or toll free (866) SAFMC-10; fax: (843) 769-4520; e-mail: kim.iverson@safmc.net.

SUPPLEMENTARY INFORMATION: The South Atlantic Fishery Management Council will convene its King and Spanish Mackerel AP via conference call to review: (1)Amendment 17 to the Coastal Migratory Pelagic Resources (Mackerel) Fishery Management Plan (FMP) for the Gulf of Mexico and South Atlantic FMP, and (2) the coastal migratory pelagic component of Generic Amendment 3 for Addressing EFH Requirements, HAPC, and Adverse Effects of Fishing in the Following Fishery Management Plans of the Gulf of Mexico: Shrimp, Red Drum, Reef Fish, Stone Crab, Coral and Coral Reefs in the Gulf of Mexico, and Spiny Lobster and the Coastal Migratory Pelagic Resources of the Gulf of Mexico and South Atlantic. Under the Coastal Migratory Pelagic Resources FMP, the South Atlantic Fishery Management Council and Gulf of Mexico Fishery Management Council are jointly responsible the management of coastal migratory pelagic species. The Gulf Council's Generic Amendment 3 will amend the Coastal Migratory Pelagic Resources FMP.

Amendment 17 addresses the continuance of the charter/headboat permit moratorium for coastal migratory pelagic species currently in place in the Gulf of Mexico fishery. On May 6, 2003, NOAA's National Marine Fisheries Service approved Amendment 14 to the Coastal Migratory Pelagics FMP, establishing the charter vessel/headboat permit moratorium in the Gulf of Mexico for the Coastal Migratory Pelagic fishery. Implemented on June 16, 2003, the intended effect of the amendment was to cap the number of for-hire vessels operating in the fishery at the levels that existed as of March 29, 2001 while the Councils evaluated whether a limited access program was needed to permanently constrain effort. The moratorium is set to expire June 16, 2006. In Amendment 17, the Councils are considering whether to let the moratorium expire, extend the moratorium for a finite time period (5 or 10 years), or establish an indefinite limited access program. The Gulf of Mexico Council has selected as its preferred alternative to establish an indefinite limited access program. The South Atlantic Fishery Management Council has not taken action.

Generic Amendment 3 contains proposed alternatives to define EFH for the Coastal Migratory Pelagic Resources Fishery Management Plan.

The South Atlantic Fishery Management Council will consider any recommendations developed by the King and Spanish Mackerel Advisory Panel and take final action on Amendment 17 and Generic Amendment 3 at its December 5-9, 2005 meeting in Carolina Beach, NC.

The meeting will be held via conference call on November 3, 2005, at 1 p.m. and conclude no later than 3 p.m. Listening stations will be available at the following locations:

1. South Atlantic Fishery Management Council, One Southpark Circle, Suite 306, Charleston, SC 29407-4699;

2. The Gulf of Mexico Fishery Management Council, 2203 North Lois Avenue, Suite 1100, Tampa, FL 33607;

3. NOAA's National Marine Fisheries Service, Southeast Regional Office, 263 13th Avenue South, St. Petersburg, FL 33701;

4. NOAA's National Marine Fisheries Service, Southeast Fisheries Science Center, 73 Virginia Beach Drive, Miami, FL 33149; and

5. Florida Fish and Wildlife Conservation Commission, 2796 Overseas Highway, Suite 119, Marathon, FL 33050.

Although other non-emergency issues not on the agenda may come before the AP for discussion, those issues may not be the subject of formal action during this meeting. Actions of the AP will be restricted to those issues specifically identified in this notice and any issues arising after publication of this notice that require emergency action under Section 305(c) of the Magnuson-Stevens Fishery Conservation and Management Act, provided the public has been notified of the Council's intent to take action to address the emergency. The times and sequence specified in this agenda are subject to change.

Special Accommodations

These meetings are physically accessible to people with disabilities. Requests for auxiliary aids should be directed to the Council office(see ADDRESSES) 5 days prior to the meetings.

Dated: October 12, 2005.
Emily Menashes,
Acting Director, Office of Sustainable Fisheries, National Marine Fisheries Service.

[FR Doc. E5-5709 Filed 10-14-05; 8:45 am]

BILLING CODE 3510-22-S